DEPARTMENT OF HEALTH AND HUMAN SERVICES

Agency for Toxic Substances and Disease

Board of Scientific Counselors, National Center for Environmental Health/Agency for Toxic Substances and Disease Registry (BSC, NCEH/ATSDR): Notice of Charter Renewal

This gives notice under the Federal Advisory Committee Act (Pub. L. 92-463) of October 6, 1972, that the Board of Scientific Counselors, Agency for Toxic Substances and Disease Registry, of the Department of Health and Human Services, has been renewed for a 2-year period extending through May 21, 2012.

For further information, contact Paula Burgess, M.D., Ph.D., Designated Federal Officer, BSC, NCEH/ATSDR, 1600 Clifton Road, NE, Mailstop E-28, Atlanta, Georgia 30333, telephone 404/488-0574, e-mail.

The Director, Management Analysis and Services Office, has been delegated the authority to sign Federal Register notices pertaining to announcements of meetings and other committee management activities, for both CDC and the Agency for Toxic Substances and Disease Registry.

Dated: July 15, 2010.
Elaine L. Baker,
Director, Management Analysis and Services Office, Centers for Disease Control and Prevention.

[FR Doc. 2010-18063 Filed 7-22-10; 8:45 am]

BILLING CODE 4163-18-P